SURFACE TRANSPORTATION BOARD

[Docket No. FD 36286]

Atlanta BeltLine, Inc.—Acquisition Exemption—Norfolk Southern Railway Co.

Atlanta BeltLine, Inc. (ABI), a non-carrier, non-profit corporation implementation agent of the City of Atlanta, Ga., has filed a verified notice of exemption under 49 CFR 1150.31 to acquire the right to reactivate rail service from Norfolk Southern Railway Company (NSR) on an approximately 1.0 mile of rail-banked railroad line extending from milepost DF 632.10 to milepost DF 633.10, including the western leg of the Armour Wye, in Atlanta, Fulton County, Ga. (the Line), as well as NSR's real property interest in the segment of the Line between milepost DF 632.10 and milepost DF 632.42 (the Segment).

The Board authorized abandonment of the Line in 2017. See Norfolk S. Ry.—Aban. Exemption—in Atlanta, Ga., AB 290 (Sub-No. 388X) (STB served Aug. 3, 2017). ABI states that the Line is currently subject to interim trail use under a trail use agreement between ABI and NSR under the National Trails System Act, 16 U.S.C. 1247(d). (Notice of Trail Use Agreement, Oct. 17, 2017, AB 290 (Sub-No. 388X).)

ABI's verified notice describes two agreements. First, on March 2, 2017, ABI and NSR entered into a purchase and sale agreement for the Segment by quitclaim deed, subject to certain conditions, in anticipation of NSR's abandonment of the Line. ABI states that it and NSR consummated the transfer of the real property interest in the Segment and that NSR executed the quitclaim deed on October 13, 2017. Second, ABI states that it and NSR entered into a trail use agreement for the Line on October 13, 2017, which sets out the terms and conditions for ABI's acquisition of NSR's freight reactivation rights on the Line. ABI states that the transactions between ABI and NSR that are the subject of this proceeding will complete the transfer of all of NSR's ownership rights and responsibilities in the Line to ABI.¹

¹ ABI states that it acquired the real estate interests in the portion of the Line from milepost DF 632.42 to DF 633.10 in 2008. The Board previously determined that, in accordance with the principles set out in Maine, Department of Transportation—Acquisition & Operation Exemption—Maine Central Railroad, 8 I.C.C.2d 835 (1991), this acquisition of the right-of-way between mileposts DF 632.42 and 633.10 did not require Board authority. See Atlanta Dev. Auth.—Verified Pet. for a Declaratory Order, FD 35991, slip op. at 3, 5-6 (STB served May 26, 2017).

ABI certifies that its projected annual revenues as a result of this transaction will not exceed those that would qualify it as a Class III rail carrier. ABI further certifies that the proposed transaction does not involve a provision or agreement that would limit future interchange with a third-party connecting carrier.

The transaction may be consummated on or after June 28, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than June 21, 2019 (at least seven days before the exemption becomes effective).

All pleadings, referring to Docket No. FD 36286, must be filed with the Surface Transportation Board either via e-filing or in writing addressed to 395 E Street SW, Washington, DC 20423-0001. In addition, a copy of each pleading must be served on ABI's representatives, Charles A. Spitulnik and Allison I. Fultz, Kaplan Kirsch & Rockwell LLP, 1634 I (Eye) Street NW, Suite 300, Washington, DC 20006.

According to ABI, this action is categorically excluded from environmental reporting requirements under 49 CFR 1105.6(c), and from historic preservation reporting requirements under 49 CFR 1105.8(b)(1).

Board decisions and notices are available at www.stb.gov.

Decided: June 11, 2019.
By the Board, Allison C. Davis, Director, Office of Proceedings.
Jeffrey Herzig,
Clearance Clerk.

[FR Doc. 2019-12619 Filed 6-13-19; 8:45 am]

BILLING CODE 4915-01-P